NATIONAL ARCHIVES AND RECORDS ADMINISTRATION

NARA Scheduling and Appraisal Review

AGENCY: National Archives and Records Administration (NARA).

ACTION: Notice; request for comment.

SUMMARY: The National Archives and Records Administration (NARA) is conducting a review of its records scheduling and appraisal policies and process. NARA invites comment on a proposed Work Plan for Stage I supporting this Scheduling and Appraisal Project. Work under this proposed Plan includes:

1. Developing a methodology for gathering information from customers (Federal agencies, including NARA staff, and the public);

2. Developing data gathering tools such as customer surveys and focus group sessions;

3. Performing the information collections;

4. Analyzing the data gathered; and,

5. Analyzing a number of policy issues relating to scheduling and appraising Federal records.

The Draft Work Plan is available at http://www.nara.gov/records/sap/

DATES: Comments must be received by April 11, 2000.

ADDRESSES: Paper copies of the document are also available from the contact person in FOR FURTHER INFORMATION CONTACT section of this notice.

Send comments electronically in the body of the message to comments@nara.gov. Comments may also be mailed to Scheduling and Appraisal Project Comments, Rm 4100, National Archives at College Park, 8601 Adelphi Road, College Park, MD 20740-6001 or faxed to 301 713-7270.

FOR FURTHER INFORMATION CONTACT: Susan Cummings by email at susan.cummings@arch2.nara.gov or by telephone at 301 713-7360, ext. 238.

SUPPLEMENTARY INFORMATION: This notice is also published in the Commerce Business Daily.

Lewis J. Bellardo,
Deputy Archivist of the United States.

[FR Doc. 00-7438 Filed 3-24-00; 8:45 am]

BILLING CODE 7515-01-P